DEPARTMENT OF COMMERCE

National Institute of Standards and Technology

Proposed Voluntary Product Standard 2-10, Performance Standard for Wood-Based Structural-Use Panels

AGENCY: National Institute of Standards and Technology (NIST), Commerce.

ACTION: Notice and request for comments.

SUMMARY: The National Institute of Standards and Technology (NIST) is soliciting public comment on a proposed revision to Voluntary Product Standard (PS) 2-10, Performance Standard for Wood-Based Structural-Use Panels. The standard, prepared by the Standing Committee for PS 2, establishes requirements for those who choose to adhere to the standard, for the structural criteria to assess the acceptability of wood-based structural-use panels for construction sheathing and single-floor applications. It also provides a basis for common understanding among the producers, distributors, and the users of these products. Interested parties are invited to review the proposed standard and submit comments to NIST.

DATES: Written comments regarding the proposed revision to PS 2-10 should be submitted to the Standards Services Division, NIST, no later than December 10, 2018.

ADDRESSES: An electronic copy (an Adobe Acrobat File) of the proposed revision to the standard, PS 2-10, can be obtained at the following website: https://www.nist.gov/standardsgov/voluntary-product-standards-program. This site also includes an electronic copy of PS 2-10 (the existing standard) and a summary of the significant changes. Written comments on the proposed revision should be submitted to David F. Alderman, Standards Coordination Office, NIST, 100 Bureau Drive, Stop 2100, Gaithersburg, MD 20899-2100. Electronic comments may be submitted to david.alderman@nist.gov.

FOR FURTHER INFORMATION CONTACT: David F. Alderman, Standards Coordination Office, National Institute of Standards and Technology, telephone (301) 975-4019; fax: (301) 975-4715, email: david.alderman@nist.gov.

SUPPLEMENTARY INFORMATION: The proposed revision of the standard has been developed and is being processed in accordance with Department of Commerce provisions in 15 CFR part 10, Procedures for the Development of Voluntary Product Standards, as amended (published June 20, 1986). The Standing Committee for PS 2 is responsible for maintaining, revising, and interpreting the standard, and is comprised of producers, distributors, users, and others with an interest in the standard. Committee members voted on the revision, which was approved unanimously. The Committee then submitted a report to NIST along with the voting results and the draft revised standard. NIST has determined that the revised standard should be issued for public comment.

Voluntary Product Standard PS 2-10 establishes structural criteria for assessing the acceptability of wood-based structural-use panels for construction sheathing and single-floor application and provides a basis for common understanding among the producers, distributors, and the users of these products. After conducting a review of the current standard, PS 2-10, the Standing Committee for PS 2 determined that updates were needed to reflect current industry practices and developed the proposed revision to the standard through meetings to review the standard and propose needed changes.

The proposed revision includes the following changes: Change of title, editorial corrections, new and revised definitions, updated references, and changes to Section 5 Requirements. A complete list of proposed changes can be found at https://www.nist.gov/standardsgov/voluntary-product-standards-program. All public comments will be reviewed and considered.

Attachments will be accepted in plain text, Microsoft Word, or Adobe PDF formats. Comments containing references, studies, research, and other empirical data that are not widely published should include copies or electronic links of the referenced materials.

All submissions, including attachments and other supporting materials, will become part of the public record and subject to public disclosure. NIST reserves the right to publish comments publicly, unedited and in their entirety. Sensitive personal information, such as account numbers or Social Security numbers, or names of other individuals, should not be included. Submissions will not be edited to remove any identifying or contact information. Do not submit confidential business information, or otherwise sensitive or protected information. Comments that contain profanity, vulgarity, threats, or other inappropriate language or content will not be considered.

Written comments should be submitted in accordance with the DATES and ADDRESSES sections of this notice. The Standing Committee for PS 2 and NIST will consider all responsive comments received and may revise the standard accordingly.

Authority: 15 U.S.C. 272.

Kevin A. Kimball,
Chief of Staff.

[FR Doc. 2018-24407 Filed 11-7-18; 8:45 am]

BILLING CODE 3510-13-P